DEPARTMENT OF VETERANS AFFAIRS

Voluntary Service National Advisory Committee; Notice of Meeting

The Department of Veterans Affairs gives notice under Public Law 92-463 (Federal Advisory Committee Act) that the annual meeting of the Department of Veterans Affairs Voluntary Service (VAVS) National Advisory Committee (NAC) will be held on June 9-12, 2004, at the Rosen Plaza Hotel, 9700 International Drive, Orlando, Florida. The meeting is open to the public.

The Committee, comprised of sixty-three national voluntary organizations, advises the Secretary on coordinating and promoting volunteer activities within VA facilities. The primary purposes of this meeting are: To provide an opportunity for the Committee's review of volunteer policies and procedures; to accommodate full and open communications between the organizations, representatives and the Voluntary Service Office and field staff; to provide educational opportunities geared towards improving volunteer programs with special emphasis on methods to recruit, retain, motivate and recognize volunteers; and to approve Committee recommendations.

The meeting sessions are scheduled for 6 p.m. until 8 p.m. on June 9, 2004; 8:30 a.m. until 4:30 p.m. on June 10, 2004; 8:30 a.m. until 4:30 p.m. on June 11, 2004; and 7 a.m. until 1 p.m. on June 12, 2004, with a closing program at 6 p.m. that day. The June 9 session will involve opening ceremonies, remarks by several officials and a keynote address by the Secretary of Veterans Affairs. The June 10 session will feature a presentation on the VA Voluntary Service, a presentation on Care Coordination and four educational workshops on the good neighbor program, student volunteer program, target recruitment for 20-40 age groups, and corporate fundraising. On June 11, educational workshops will continue and keynote speaker Dr. Jonathan Perlin, Acting Under Secretary for Health, will address the business session. There will also be several awards recognizing exceptional volunteer service and the James Parke memorial Scholarship Luncheon. The June 12 session will include discussions on volunteer recruitment strategies, a closing business session, and will be followed by a closing ceremonies event in the evening.

Individuals interested in attending should contact: Ms. Laura Balun, Administrative Officer, Voluntary Service Office (10C2), Department of Veterans Affairs, 810 Vermont Avenue, NW., Washington, DC 20420, (202) 273-8392.

Dated: April 16, 2004.
By Direction of the Secretary.
E. Philip Riggin,
Committee Management Officer.

[FR Doc. 04-9702 Filed 4-28-04; 8:45 am]

BILLING CODE 8320-01-M